ENVIRONMENTAL PROTECTION AGENCY

[ER-FRL-9012-8]

Environmental Impact Statements; Notice of Availability

Responsible Agency: Office of Federal Activities, General Information (202) 564-7146 or http://www.epa.gov/compliance/nepa/.

Weekly receipt of Environmental Impact Statements

Filed 12/23/2013 Through 12/27/2013

Pursuant to 40 CFR 1506.9.

Notice

Section 309(a) of the Clean Air Act requires that EPA make public its comments on EISs issued by other Federal agencies. EPA's comment letters on EISs are available at: http://www.epa.gov/compliance/nepa/eisdata.html.

EIS No. 20130381, Draft EIS, FHWA, TX, US 181 Harbor Bridge Project, Comment Period Ends: 03/03/2014, Contact: Gregory Punske 512-536-5960.

EIS No. 20130382, Draft EIS, NPS, 00, Glen Canyon National Recreation Area Off-road Vehicle Management Plan, Comment Period Ends: 03/04/2014, Contact: Brian Carey 928-608-6209.

EIS No. 20130383, Final EIS, USACE, CA, Berryessa Creek Element Coyote and Berryessa Creek California Flood Control Project, Review Period Ends: 02/03/2014, Contact: Tyler Stalker 916-557-5107.

Amended Notices

EIS No. 20130325, Draft EIS, NPS, MO, Ozark National Scenic Riverways Draft General Management Plan, Wilderness Study, Comment Period Ends: 02/07/2014, Contact: William Black 573-323-4236, Revision to the FR Notice Published 12/06/2013; Extending Comment Period from 01/08/2014 to 02/07/2014.

EIS No. 20130360, Final EIS, USFS, AZ, Rosemont Copper Project, Proposed Construction, Operation with Concurrent Reclamation and Closure of an Open-Pit Copper Mine, Review Period Ends: 02/14/2014, Contact: Mindy Vogel 520-388-8300, Revision to FR Notice Published 12/20/2013; Correcting the Review Period End Date to read 02/14/2014.

Dated: December 30, 2013.
Dawn Roberts,
Management Analyst, NEPA Compliance Division, Office of Federal Activities.

[FR Doc. 2013-31448 Filed 1-2-14; 8:45 am]

BILLING CODE 6560-50-P